DEPARTMENT OF HEALTH AND HUMAN SERVICES

Agency for Toxic Substances and Disease Registry

Statement of Organization, Functions, and Delegations of Authority

Part J (Agency for Toxic Substances and Disease Registry) of the Statement of Organization, Functions, and Delegations of Authority of the Department of Health and Human Services (50 FR 25129-25130, dated June 17, 1985, as amended most recently at 77 FR 68125, dated November 15, 2012) is amended to reflect the reorganization of the Office of Financial Administrative Services, Office of the Director, Agency for Toxic Substances and Disease Registry.

Section T-B, Organization and Functions, is hereby amended as follows: Delete in its entirety the title for the Office of Financial and Administrative Services (JAA2), Office of the Director (JAA), Agency for Toxic Substances and Disease Registry (JA) and insert the title Office of Financial, Administrative, and Information Services (JAA2), Office of the Director (JAA), Agency for Toxic Substances and Disease Registry (JA).

Revise the functional statement for the Office of Financial, Administrative, and Information Services (JAA2), as follows:

After item (6), insert the following item: (7) enables and supports NCEH/ATSDR data management, systems development, and information security needs.

Dated: January 11, 2013.
Sherri A. Berger,
Chief Operating Officer, Centers for Disease Control and Prevention.

[FR Doc. 2013-01663 Filed 1-25-13; 8:45 am]

BILLING CODE 4160-70-M